DEPARTMENT OF THE TREASURY

Internal Revenue Service

Open Meeting of Citizen Advocacy Panel, Midwest District

AGENCY: Internal Revenue Service (IRS), Treasury.

ACTION: Notice.

SUMMARY: Cancellation of the Midwest Citizen Advocacy Panel meeting

DATES: Wednesday, September 26, 2001.

FOR FURTHER INFORMATION CONTACT: Sandra McQuin at 1-888-912-1227 (in Wisconsin, Iowa, Nebraska and Illinois), or 414-297-1604.

SUPPLEMENTARY INFORMATION: Notice is hereby given pursuant to Section 10(a)(2) of the Federal Advisory Committee Act, 5 U.S.C. App. (1988) that the open meeting of the Citizen Advocacy Panel (CAP) scheduled for Wednesday, September 26, 2001, from 8:00 a.m. to Noon at the Hyatt Regency Hotel, 333 West Kilbourn Avenue, Milwaukee, Wisconsin, has been cancelled.

Dated: September 19, 2001.
Cindy Vanderpool,
Detailed Director, CAP, Communication and, Liaison.

[FR Doc. 01-24118 Filed 9-26-01; 8:45 am]

BILLING CODE 4830-01-P